DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before August 29, 2024.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on July 17, 2024.
Donald P. Burger,
Chief, General Approvals and Permits Branch.

Application No. | Applicant | Regulation(s) affected | Nature of the special permits thereof
Special Permits Data—Granted
11107-M | Pacific Scientific Energetic Materials Company (California) | 173.56(e)(3), 173.56(e)(4) | To modify the special permit to remove names of specific authorized carriers and to update the length of the tray.
11194-M | Mission Systems Orchard Park Inc | 172.203(a), 172.301(c), 173.302(a)(1), 173.304(a) | To modify the special permit to authorize additional hazardous materials.
11380-M | Baker Hughes Oilfield Operations LLC | 173.302(a)(1), 178.37(h)(3) | To modify the special permit to authorize an additional cylinder.
14651-M | Versum Materials US, LLC | 173.40(e) | To authorize the transportation of Silicon tetrafluoride, a hazard zone B toxic by inhalation gas in manifolded DOT specification 3A and 3AA cylinders.
15537-M | Orica USA Inc | 172.101(j) | To modify the permit to authorize an additional hazardous material.
15583-M | Northern Air Cargo, LLC | 172.101(j), 172.301(c), 173.62(c) | To modify the special permit to authorize an additional hazardous material.
15882-M | Ryan Air, Inc | 172.101(j), 173.27, 173.243 | To modify the special permit to authorize an additional packaging.
20301-M | Tesla, Inc | 172.101(j), 173.185(a)(1), 173.185(b)(3)(i), 173.185(b)(3)(ii) | To modify the special permit to authorize an additional cell type.
20952-M | Capella Space Corp | 173.185(a)(1) | To modify the special permit to increase the weight restriction as limited by ICAO-TI Special Provision A88.
20977-M | Rocket Lab USA, Inc | 173.185(a)(1), 173.185(b)(3)(iii), 173.185(b)(4) | To modify the special permit to authorize additional lithium ion batteries.
21212-M | The Boeing Company | 173.241 | To modify the special permit by adding two hydraulic carts.
21561-N | Xtracan GmbH | 173.306(a)(3), 178.33a-1 | To authorize the manufacture, mark, sale, and use of a non-DOT specification container that conforms to all regulations applicable to the DOT-2Q container, except for wall thickness, for the transportation in commerce of the hazardous materials in paragraph 6.
21607-M | Amazon.com, Inc | 172.200(b)(3), 172.315(a)(2) | To modify the special permit to remove ferry vessel distance limitations.
21623-N | Evergreen Goodwill of Northwest Washington | 172.600, 172.201, 172.300, 172.702, 172.400, 172.500 | To authorize the transportation in commerce of hazardous materials intermingled with non hazardous materials that have been donated by community at remote donation sites.
21648-N | Bentley Motors Limited | 172.101(j) | To authorize the transportation in commerce of lithium ion batteries exceeding 35 kg by cargo-only aircraft.
21638-M | BAE Systems Controls Inc | 172.101(j), | To modify the special permit to authorize a lithium battery with a higher weight.
21678-N | Moxion Power Co | 172.102(c)(1) | To authorize the transportation in commerce of lithium ion batteries installed in cargo transport units by cargo-only aircraft.
21711-N | Maserati Spa | 172.101(j) | To authorize the transportation in commerce of lithium ion batteries exceeding 35 kg by cargo-only aircraft.
21713-N | Lockheed Martin Corporation | 173.301(f)(1), 173.302(a)(1) | To authorize the transportation in commerce of non-DOT specification cylinders containing compressed neon installed in a spacecraft or components of spacecraft.
21716-N | Kraken Robotics US Inc | 172.101(j), 172.101(j), 173.185(a)(1), 173.185(a)(1) | To authorize the transportation in commerce of prototype and low production lithium ion batteries that have not passed the criteria in Part III, subsection 38.3 of the UN Manual of Tests and Criteria and exceed 35 kg net weight aboard cargo-only aircraft.
21718-N | UFP Packaging, LLC | 178.935(c)(1), 178.935(c)(1) | To authorize the manufacture, mark, sale, and use of UN 50D Large Packagings that have a volumetric capacity greater than 3,000 liters.
21721-N | WAE Technologies Limited | 172.101(j) | To authorize the transportation in commerce of lithium batteries exceeding 35 kg by cargo-only aircraft.
21742-N | Seattle Children's Hospital | 173.196(a), 173.196(a) | To authorize the transportation in commerce of certain Division 6.2 infectious substances in alternative packaging (freezers).
21753-N | American Promotional Events, I | 173.56, 173.62 | To authorize the one-time, one-way transportation in commerce of unapproved and non-compliant packages of fireworks that have been confiscated by the Hawaiian authorities.
21758-N | Bollore Logistics Germany Gmbh | 172.400, 172.300, 173.185(a)(1), 173.301, 173.302a(a)(1), 173.304a(a)(2) | To authorize the transportation in commerce of certain non-DOT specification containers containing certain Division 2.2 compressed gases and other hazardous materials identified in paragraph 6 of this special permit for use in specialty propulsion applications for satellites and a lithium prototype batter which has not been tested in accordance with Part III of Section UN 38.3 of the UN Manual of Tests and Criteria.
21759-N | Department of Defense US Army Military Surface Deployment & Distribution Command | 172.400(a), 172.500(a), 172.101(j)(1), 173.211(a) | To authorize the transportation in commerce of certain cesium devices in specified packaging.
21784-N | Daicel Safety Systems (jiangsu) Co., Ltd | 173.301(a)(1), 178.65(b), 178.65(c)(3), 178.65(e)(1), 178.65(f)(1), 178.65(g), 178.65(i) | To authorize the manufacture, mark, sale, and use of non-DOT specification cylinders (pressure vessels) for use as components of automobile vehicle safety systems.
Special Permits Data—Denied
16318-M | Technical Chemical Company | 173.304(d), 173.167(a), 173.302(a), 173.306(i) | To modify the special permit to authorize an additional hazardous material.
21283-N | Gas Innovations Inc | 173.315 | To authorize the transportation in commerce of cryogenic ethane in tank cars via rail freight.
21417-N | SodaStream USA, Inc | 178.70(e) | To authorize the manufacture, mark, sale, and use of UN specification cylinders for which an Independent Inspection Agency has not witnessed all tests and inspections.
21459-M | Hopkins Holdings LLC | 173.306(a)(1), 172.301(c) | To modify the special permit to waive the special permit marking on the package.
Special Permits Data—Withdrawn
21760-N | Creotech Instruments S.A | 173.185 | To authorize the transportation in commerce aboard cargo-only aircraft of battery-powered vehicles containing lithium ion batteries not proven to meet the criteria in Part III, subsection 38.3 of the UN Manual of Tests and Criteria.
21777-N | Aggregate Resource Drilling, LLC | 172.301(c), 177.835(g) | To authorize the transportation in commerce of detonators, detonator assemblies, detonating fuzes, and igniting fuzes on the same motor vehicle with any other Class 1 explosives when conforming to the terms of this special permit. This special permit provides no relief from the Hazardous Materials Regulations (HMR) other than specifically stated herein.

[FR Doc. 2024-16652 Filed 7-29-24; 8:45 am]

BILLING CODE P